POSTAL REGULATORY COMMISSION

[Docket No. MC2026-99; Order No. 9356]

Competitive Postal Products

AGENCY: Postal Regulatory Commission.

ACTION: Notice.

SUMMARY: The Commission is recognizing a recent filing by the Postal Service concerning a product description change to the Mail Classification Schedule. This notice informs the public of the filing, invites public comment, and takes other administrative steps.

DATES: Comments are due: December 5, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On November 14, 2025, pursuant to 39 CFR 3040.190, the Postal Service filed a notice to change Part D, which refers to the Country Price Lists for International Mail, in the Mail Classification Schedule section 4000.¹ Effective January 18, 2026, the Postal Service plans to change the country price groups assigned to the Market Dominant product Outbound Single-Piece First-Class Mail International and certain competitive international mail products destined for French Guiana, Guadeloupe, Martinique, and Reunion. Notice at 1-2.

¹ Notice of United States Postal Service of Minor Classification Changes, November 14, 2025 (Notice).

II. Commission Action

The Commission establishes Docket No. MC2026-99 for consideration of matters raised by the Notice.

Pursuant to 39 CFR 3040.191, the Commission has posted the Notice on its website and invites comments on whether the Postal Service's filings are consistent with the policies and applicable criteria of chapter 36 of title 39 of the United States Code, 39 CFR 3040.190-.192, and any applicable Commission directives and orders. Comments are due December 5, 2025. The public portions of the filings can be accessed via the Commission's website (https://www.prc.gov).

The Commission appoints Samuel Robinson to represent the interests of the general public (Public Representative) in this docket, pursuant to 39 U.S.C. 505 and 39 CFR 3040.191(d). The Public Representative does not represent any individual person, entity, or particular point of view, and, when Commission attorneys are appointed, no attorney-client relationship is established.

III. Ordering Paragraphs

It is ordered:

1. The Commission establishes Docket No. MC2026-99 for consideration of matters raised by the Postal Service's Notice.

2. Pursuant to 39 U.S.C. 505 and 39 CFR 3040.191(d), Samuel Robinson is appointed to serve as an officer of the Commission (Public Representative) to represent the interests of the general public in this proceeding.

3. Comments are due December 5, 2025.

4. The Secretary shall arrange for publication of this order in the Federal Register.

By the Commission.
Erica A. Barker,
Secretary.

[FR Doc. 2025-20379 Filed 11-19-25; 8:45 am]

BILLING CODE 7710-FW-P